DEPARTMENT OF JUSTICE

Office of Justice Programs

[OJP (NIJ) Docket No. 1497]

Proposed Vehicular Digital Multimedia Evidence Recording System Standard

AGENCY: National Institute of Justice, Office of Justice Programs, DOJ.

ACTION: Notice of Proposed Vehicular Digital Multimedia Evidence Recording System Standard.

SUMMARY: In an effort to obtain comments from interested parties, the U.S. Department of Justice, Office of Justice Programs, National Institute of Justice (NIJ) will make available to the general public an initial draft standard entitled, “Vehicular Digital Multimedia Evidence Recording System Standard.” The opportunity to provide comments on this document is open to industry technical representatives; public safety agencies and organizations; forensic video analysts; research, development and scientific communities; and all other stakeholders and interested parties. We are especially requesting input related to environmental requirements of importance to end users.

Those individuals wishing to view or provide comments on the draft document are directed to the following Web site: http://www.justnet.org. These comments will be considered as the standard is further developed.

DATES: The comment period will be open for 30 days beginning on July 6, 2009 and concluding on August 4, 2009.

FOR FURTHER INFORMATION CONTACT: Casandra Robinson, by telephone at 202-305-2596 [Note: this is not a toll-free telephone number], or by e-mail at casandra.robinson@usdoj.gov.

Dated: June 30, 2009.
Kristina Rose,
Acting Director, National Institute of Justice.

[FR Doc. E9-15858 Filed 7-2-09; 8:45 am]

BILLING CODE 4410-18-P